DEPARTMENT OF THE INTERIOR

National Park Service

[NPS-WASO-NRNHL-11529; 2200-3200-665]

National Register of Historic Places; Notification of Pending Nominations and Related Actions

Nominations for the following properties being considered for listing or related actions in the National Register were received by the National Park Service before October 13, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by November 28, 2012. Before including your address, phone number, email address, or other personal identifying information in your comment, you should be aware that your entire comment—including your personal identifying information—may be made publicly available at any time. While you can ask us in your comment to withhold your personal identifying information from public review, we cannot guarantee that we will be able to do so.

Dated: October 17, 2012.
J. Paul Loether,
Chief, National Register of Historic Places/National Historic Landmarks Program.

COLORADO

Routt County

Kimsey—Bolten Ranch Rural Historic Landscape, 41090 Cty. Rd. 80, Hayden, 12000972

GUAM

Guam County

Malesso Japanese Rice Mill, Jesus Barcinas Rd., Merizo, 12000973

INDIANA

Porter County

Meyer, Dr. John and Gerda, House, 360 W. Fairwater Ave., Beverly Shores, 12000974

LOUISIANA

Rapides Parish

Alexandria Veterans Administration Hospital Historic District (Boundary Increase), (United States Second Generation Veterans Hospitals MPS) 2495 Shreveport Hwy., Pineville, 12000975

MARYLAND

Dorchester County

Pine Street Neighborhood Historic District, High, Pine, & Washington Sts., Cambridge, 12000976

MASSACHUSETTS

Middlesex County

Bedford Veterans Administration Hospital Historic District, (United States Second Generation Veterans Hospitals MPS) 200 Springs Rd., Bedford, 12000977

Suffolk County

Sherman Apartments Historic District, 544-546 Washington, 4-6, 12-14, 18 Lyndhurst Sts., Boston, 12000978

MISSOURI

St. Louis Independent City

St. Francis de Sales Historic District, Bounded by Nebraska, Jefferson, & Victor Aves., Gravois Rd., & Pestalozzi St., St. Louis (Independent City), 12000979

MONTANA

Missoula County

Ressler, Guy, Homestead House, Near Burnt Fork Cr., Huson, 12000980

NEW YORK

Erie County

Baker Memorial Methodist Episcopal Church, 345 Main St., East Aurora, 12000981

Herkimer County

Perry, Stuart and William Swezey Houses, 7541 & 7551 Main St., Newport, 12000982

Schuyler County

Montour Falls Union Grammar School, 208 W. Broadway, Montour Falls, 12000983

PENNSYLVANIA

Allegheny County

Schenley Farms Historic District (Boundary Increase), 4400 Centre Ave., Pittsburgh, 12000984

VIRGINIA

Albemarle County

Crozet Historic District, Roughly Railroad, St. George, & Crozet Aves., Crozet, 12000985

Halifax County

Collins Ferry Historic District, McKeever Trail, & Bull Creek Rd., Nathalie, 12000986

Thornton, Dr. Richard, House, Golden Leaf Rd., & Tobacco Rd., Nathalie, 12000987

Petersburg Independent City

Petersburg Old Town Historic District (Boundary Increase II), 212, 317, 415 E. Bank, 427, 504, 505, 515 Bollingbrook, 203 Henry, 317 N. Madison, & 401, 409 5th Sts., Petersburg (Independent City), 12000988

Richmond Independent City

Fifth and Main Downtown Historic District (Boundary Increase), 0 blk. of N. 3rd, N. 4th, S. 6th, & 300, 400 blks. E. Main Sts., Richmond (Independent City), 12000989

[FR Doc. 2012-27482 Filed 11-9-12; 8:45 am]

BILLING CODE 4312-51-P